CORPORATION FOR NATIONAL AND COMMUNITY SERVICE

45 CFR Chapter XXV

Notice Inviting Preliminary Informal Public Input in Advance of Learn and Serve America Program Changes

AGENCY: Corporation for National and Community Service.

ACTION: Request for comments and notice of meetings.

SUMMARY: The Corporation for National and Community Service (the Corporation) invites the public to share its views during two scheduled conference calls and two scheduled public meetings on issues related to Learn and Serve America. In response to Executive Order 13331, the Corporation's Board of Directors Grants Management Task Force Report, and in preparation for the expected round of new funding in 2006, Learn and Serve America is considering combining grant guidelines, provisions, and regulations into a single, streamlined document. We are interested in public views about the future of Learn and Serve America programs and the ways in which those programs have an impact on students, communities, and the institutions that operate programs. Some issues under consideration include: Learn and Serve America grant selection criteria, intensity and duration of a participant's community service, the role of Learn and Serve America grantees within Unified State Plans, timing and substance of Learn and Serve America grant applications, and definitions of key terms. The Corporation is also interested in receiving input on allowable subgrant types, project expenditures, performance indicators and evaluation requirements, grantee reporting, intergenerational participation, and program sustainability and institutionalization.

DATES: Please submit written input to the Corporation as soon as possible. We will consider input as we begin consideration of possible revisions to the Learn and Serve America guidelines, provisions and regulations and during the drafting of a Notice of Proposed Rulemaking. In addition, the Corporation will hold two toll-free conference calls and two public input meetings. See SUPPLEMENTARY INFORMATION for conference call and input meeting information.

ADDRESSES: You may submit written input to the Corporation by any of the following methods:

(1) Electronically through the Corporation's e-mail address system to LSADirections@cns.gov.

(2) By fax to (202) 565-2787, Attention Amy Cohen, Director, Learn and Serve America.

(3) By mail sent to: Corporation for National and Community Service, Attn: Amy Cohen, Director, Learn and Serve America, 1201 New York Avenue NW., Room 9609, Washington, DC 20525.

(4) By hand delivery or by courier to the Corporation's mailroom at Room 6010 at the mail address given in paragraph (3) above, between 9 a.m. and 4 p.m. Monday through Friday, except Federal holidays.

Due to continued delays in the Corporation's receipt of mail, we strongly encourage responses via e-mail or fax.

FOR FURTHER INFORMATION CONTACT: For further information about the substance of this notice or to request this notice in an alternative format for the visually impaired, contact Amy Cohen at (202) 606-5000, ext. 484; acohen@cns.gov. For further information about the conference calls, please refer to our National Service-Learning Clearinghouse Web site at http://www.servicelearning.org or call Pat Carpenter at (202) 606-5000, ext. 209; pcarpenter@cns.gov. The TDD/TTY number is (800) 833-3722.

SUPPLEMENTARY INFORMATION: For more information on the Corporation, please visit our Web site at http://www.nationalservice.org. When providing oral or written input on the issues outlined above, please especially consider the following questions:

Leveraging Corporation assistance: How can we ensure that as many educational institutions as possible realize the benefits of community service-learning through the programs and services of the Corporation, and in general improve the cost effectiveness and efficiency of Corporation grants and technical assistance? Should we grant competitive preferences to organizations that have never before received Learn and Serve America funds? How should these questions apply to grantees that operate local programs directly and to grantees that provide subgrants to others to operate local programs?

Sustainability and institutionalization: How can the Corporation ensure that appropriate steps are being taken to build service-learning into the fabric of the educational or community organization? How can we ensure that Learn and Serve America grantee and subgrantee programs can continue to be successful without Federal support? What are appropriate components of grantee “sustainability plans?” How should these questions apply to grantees that operate local programs directly; to grantees that provide subgrants to others to operate local programs?

Focusing on community needs: How can the Corporation ensure that Federal funds are used most effectively to meet community needs and that all Learn and Serve America participants make a positive impact on community problems and needs?

Duration and Intensity of service: What policies should be adopted concerning the intensity (i.e., service hours per time period) and duration of community service expected of Learn and Serve America participants?

Selection Criteria: What criteria should the Corporation use in selecting grantees in its competitive Learn and Serve America programs? Should Learn and Serve America have two sets of grant application and selection criteria: one for consortia and grant intermediaries (State Education Agencies, Grant Making Entities, and Higher Education Consortia), and one for local programs? If so, what should such separate criteria include?

Subgrants: What policies should govern sub-granting? Should there be limits on duration or on type of subgrant? How many levels of subgranting should be allowed?

Grant application and process: For how many months before commencing or continuing a project does a grantee need to know that its application is approved? For how many months before commencing or continuing a project does a grantee need to know that its grant is awarded? What is a reasonable amount of time needed to prepare an application? In general, how can the Corporation simplify and streamline its grant application documents and processes? In particular, can we simplify the application and process for the second and third year grant continuations?

Definitions: How should we define “community needs?” How should we define a Learn and Serve America “participant” for elementary/secondary education and for higher education programs? How should we define a “service hour?” How should we clarify the definition of “youth and adult volunteers” who provide service along with Learn and Serve America program participants? How should we define a “subgrantee?” Should Grant Making Entities (grantees that must serve multiple states in order to be eligible for funding) be defined as providing service in two or more states from the beginning of the grant, or prospectively at any point during the grant period? Should this definition be the same for School-based and Community-based grantee organizations?

Teacher Education Grants: Should we require that Learn and Serve America grantee teacher education programs prepare prospective teachers to use service-learning in their classroom/teaching practices?

Intergenerational Activities: How should the Corporation promote the use of service-learning practices and models that utilize multiple generations? For example, should we require that Learn and Serve America higher education programs serving children include a component in which children serve with higher education student participants?

Adult and Youth Volunteers: How should the Corporation promote the recruitment of adult and youth volunteers who work with Learn and Serve America participant students in meeting community needs? How should we encourage the participation of adult volunteers who have particular expertise in meeting the community needs focused on by the Learn and Serve America projects? How should we encourage the participation of elementary/secondary student participants' family members?

Community Organization Partnerships: What steps should the Corporation take to strengthen the role of community organizations as partners in Learn and Serve America projects? What steps should we take to promote greater participation of faith-based and small community organizations?

Project Expenditures: Should Learn and Serve America grantees be required to include evaluation funding in their project budgets, along with stipulation of the scope and method of evaluations? Should we require that web conferencing capabilities be included in the grant budget?

Performance measures and evaluation: How can the Corporation and its Learn and Serve America grantees ensure that all Learn and Serve America programs are setting and achieving appropriate, measurable performance outcome goals? Should we require that Learn and Serve America grantees and subgrantees establish and meet a common set of outcome measures? How can the Corporation ensure that its grantees regularly and effectively evaluate their service-learning programs?

Unified State Plans: What role, if any, should Learn and Serve America grantees and subgrantees play within the Corporation's Unified State Plans? How should Learn and Serve America grantees and subgrantees be encouraged to participate in Unified State Plans and state-wide service conferences?

Conference Calls and Public Input Meetings

The Corporation is planning two conference calls and two public input meetings in October. Please check our National Service-Learning Clearinghouse Web site at http://www.servicelearning.org for further information regarding these conference calls and public input meetings or contact Pat Carpenter at (202) 606-5000, ext. 209 (pcarpenter@cns.gov).

Conference Calls

October 14—10:30 a.m.

October 15—3:30 p.m.

To register for the calls, please contact Pat Carpenter at pcarpenter@cns.gov. The time for both calls is eastern time.

Public Input Meetings

October 13 from 2-4 p.m. Rabb Room, University College of Citizenship and Public Service, Tufts University, Medford, MA.

October 14 from noon-2 p.m. One Dupont Circle, Conference Room C, Level 1B, Washington, DC.

The time for both meetings is eastern time. We strongly encourage you to attend in person if you are in the Boston and DC areas, and ask that you RSVP to Pat Carpenter at pcarpenter@cns.gov.

Dated: October 7, 2004.
Frank R. Trinity,
General Counsel.

[FR Doc. 04-22951 Filed 10-8-04; 8:45 am]

BILLING CODE 6050-$$-U